ENVIRONMENTAL PROTECTION AGENCY

[AZ057-NOA; FRL-7084-8]

Adequacy Status of the Maricopa County, Arizona, Submitted CO Attainment Plan for Transportation Conformity Purposes

AGENCY: Environmental Protection Agency (EPA).

ACTION: Notice of adequacy.

SUMMARY: In this document, EPA is notifying the public that we have found that submitted Revised Maricopa County Carbon Monoxide (CO) Attainment Plan is adequate for conformity purposes. As a result of our finding, the Maricopa Association of Governments and the Federal Highway Administration are required to use the CO motor vehicle emissions budget from the submitted CO Attainment Plan for future conformity determinations.

DATES: This budget is effective November 1, 2001.

FOR FURTHER INFORMATION CONTACT: The finding is available at EPA's conformity Web site: http://www.epa.gov/oms/traq, (once there, click on the “Conformity” button, then look for “Adequacy Review of SIP Submissions for Conformity”). You may also contact Frances Wicher, U.S. EPA, Region IX, Air Division AIR-2, 75 Hawthorne Street, San Francisco, CA 94105; (415) 744-1248 or wicher.frances@epa.gov.

SUPPLEMENTARY INFORMATION: Today's document is simply an announcement of a finding that we have already made. EPA Region IX sent a letter to the Arizona Department of Environmental Quality and the Maricopa Association of Governments on September 28, 2001 stating that the Revised Maricopa County CO Attainment Plan (submitted on April 18, 2001) is adequate for conformity purposes. This finding has also been announced on our conformity Web site: http://www.epa.gov/oms/traq, (once there, click on the “Conformity” button, then look for “Adequacy Review of SIP Submissions for Conformity”).

Transportation conformity is required by section 176(c) of the Clean Air Act. Our conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from our completeness review which is required by section 110(k)(1) of the Clean Air Act, and it also should not be used to prejudge EPA's ultimate approval of the SIP. Even if we find a budget adequate, the SIP could later be disapproved.

We have described our process for determining the adequacy of submitted SIP budgets in guidance (May 14, 1999 memo titled “Conformity Guidance on Implementation of March 2, 1999 Conformity Court Decision”). We followed this guidance in making our adequacy determination.

Dated: October 9, 2001.
Sally Seymour,
Acting Regional Administrator, Region IX.

[FR Doc. 01-26091 Filed 10-16-01; 8:45 am]

BILLING CODE 6560-50-P